SECURITIES AND EXCHANGE COMMISSION

17 CFR Parts 210, 228, 229, 230, 232, 239, 240, 242, 245 and 249

[Release Nos. 33-8419; 34-49644; File No. S7-21-04]

RIN 3235-AF74

Asset-Backed Securities

Correction

In proposed rule document 04-10467 beginning on page 26650 in the issue of Thursday, May 13, 2004, make the following corrections:

1. On page 26661, in the table “Proposed Disclosure for Form S-1 for Registered ABS Offerings”:

a. Under Item 2. in the second column, under the heading Required if applicable add a bullet.

b. Under Item 11(b), in the second column, under the heading Required if applicable remove the bullet.

2. On page 26689, in the first column under the footnotes, in the 11th line from the bottom, “1” should read “216”.

[FR Doc. C4-10467 Filed 5-27-04; 8:45 am]

BILLING CODE 1505-01-D